ENVIRONMENTAL PROTECTION AGENCY

40 CFR Part 721

[EPA-HQ-OPPT-2015-0810; FRL-9947-33]

RIN 2070-AB27

Significant New Use Rules on Certain Chemical Substances; Correction

AGENCY: Environmental Protection Agency (EPA).

ACTION: Final rule; correction.

SUMMARY: EPA issued a final rule in the Federal Register of May 16, 2016 for 55 chemical substances that were the subject of premanufacture notices (PMNs). For the chemical substance identified generically as aluminum calcium oxide salt (PMN P-15-328), EPA inadvertently omitted the de minimus exemption from the worker protection requirements. Also for the same chemical substance, a typographical error has been identified within the hazard communication program requirements. This document corrects the omission and the typographical error.

DATES: This correction is effective July 15, 2016.

ADDRESSES: The docket for this action, identified by docket identification (ID) number EPA-HQ-OPPT-2015-0810, is available at http://www.regulations.gov or at the Office of Pollution Prevention and Toxics Docket (OPPT Docket), Environmental Protection Agency Docket Center (EPA/DC), West William Jefferson Clinton Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

FOR FURTHER INFORMATION CONTACT: For technical information contact: Kenneth Moss, Chemical Control Division, Office of Pollution Prevention and Toxics, Environmental Protection Agency, 1200 Pennsylvania Ave. NW., Washington, DC 20460-0001; telephone number: (202) 564-9232; email address: moss.kenneth@epa.gov.

For general information contact: The TSCA-Hotline, ABVI-Goodwill, 422 South Clinton Ave., Rochester, NY 14620; telephone number: (202) 554-1404; email address: TSCA-Hotline@epa.gov.

SUPPLEMENTARY INFORMATION:

I. Does this action apply to me?

The Agency included in the May 16, 2016 final rule a list of those who may be potentially affected by this action.

II. What does this correction do?

EPA issued a final rule in the Federal Register of May 16, 2016 (81 FR 30477) (FRL-9944-77) for significant new uses for 55 chemical substances that were the subject of PMN notices. EPA omitted the de mimimus exemption of 1.0% from the worker protection requirements for § 721.10908(a)(2)(i). EPA also, within the hazard communication program requirements for § 721.10908(a)(2)(ii), misspelled a word. In that section, the word “trhough” should read “through.” This action corrects the omission and the typographical error.

III. Why is this correction issued as a final rule?

Section 553 of the Administrative Procedure Act (APA) (5 U.S.C. 553(b)(3)(B)) provides that, when an Agency for good cause finds that notice and public procedure are impracticable, unnecessary or contrary to the public interest, the Agency may issue a final rule without providing notice and an opportunity for public comment. EPA has determined that there is good cause for making this correction final without prior proposal and opportunity for comment. The TSCA section 5(e) consent order for P-15-378 that is the basis for the SNUR at § 721.10908 contains the de minimus exemption of 1.0% that is missing from the worker protection requirements for § 721.10908(a)(2)(i). The typographical error corrects a spelling mistake for the word “through.” EPA finds that this constitutes good cause under 5 U.S.C. 553(b)(3)(B).

IV. Do any of the statutory and Executive Order reviews apply to this action?

No. For a detailed discussion concerning the statutory and executive order review, refer to Unit XII. of the May 16, 2016 final rule.

V. Congressional Review Act

Pursuant to the Congressional Review Act (5 U.S.C. 801 et seq.), EPA will submit a report containing this rule and other required information to the U.S. Senate, the U.S. House of Representatives, and the Comptroller General of the United States prior to publication of the rule in the Federal Register. This action is not a “major rule” as defined by 5 U.S.C. 804(2).

In FR Doc. 2016-11121, published in the Federal Register of May 16, 2016 (81 FR 30452), make the following correction:

1. On page, 30477, in the second and third columns, in § 721.10908, paragraphs (a)(2)(i) introductory text and (a)(2)(ii) are corrected to read as follows:

§ 721.10908 Aluminum calcium oxide salt (generic).

(a) * * *

(2) * * *

(i) Protection in the workplace. Requirements as specified in § 721.63(a)(4), (a)(6)(ii), (a)(6)(v), (a)(6)(vi), (b) (concentration set at 1.0 percent), and (c). When determining which persons are reasonably likely to be exposed as required for § 721.63(a)(4), engineering control measures (e.g., enclosure or confinement of the operation, general and local ventilation) or administrative control measures (e.g., workplace policies and procedures) shall be considered and implemented to prevent exposure, where feasible. The following National Institute for Occupational Safety and Health (NIOSH)-certified respirators with an Assigned Protection Factor (APF) of at least 10 meet the requirements of § 721.63(a)(4):

* * * * *

(ii) Hazard communication program. Requirements as specified in § 721.72(a) through (f)(concentration set at 1.0 percent), (g)(1)(ii), (g)(2) (When using this substance avoid breathing the substance, and use respiratory protection, or maintain workplace airborne concentrations at or below an 8-hour time-weighted average of 5 mg/m³.) and (g)(5).

* * * * *

List of Subjects in 40 CFR Part 721

Environmental protection, Chemicals, Hazardous substances, Reporting and recordkeeping requirements.

Dated: June 23, 2016.
Maria J. Doa,
Director, Chemical Control Division, Office of Pollution Prevention and Toxics.

[FR Doc. 2016-15728 Filed 7-8-16; 8:45 am]

BILLING CODE 6560-50-P